DEPARTMENT OF COMMERCE

National Oceanic and Atmospheric Administration

[ID. 040703E]

Fisheries Off West Coast States and in the Western Pacific; Pacific Coast Groundfish Fishery; Application for an Exempted Fishing Permit

AGENCY: National Marine Fisheries Service (NMFS), National Oceanic and Atmospheric Administration (NOAA), Commerce.

ACTION: Notice of receipt of an exempted fishing permit application; request for comments.

SUMMARY: NMFS announces the receipt of an exempted fishing permit (EFP) application for a cooperative project between the Oregon State Department of Fish and Wildlife (ODFW), and the NMFS Northwest Fishery Science Center. If awarded, this EFP would allow qualifying vessels to harvest and retain federally managed groundfish in closed rockfish conservation areas and to retain federally managed groundfish species in excess of cumulative trip limits. These activities are otherwise prohibited. Vessels fishing under these EFPs will be required to carry a Federal fisheries observer while conducting EFP fishing. This EFP proposal is intended to promote the objectives of the Pacific Coast Groundfish Fishery Management Plan (FMP) by assessing the effectiveness of a fishing gear configuration that was designed to harvest flatfish stocks while reducing the incidental catch of low abundance rockfish species.

DATES: Comments must be received by May 6, 2003.

ADDRESSES: Copies of the EFP application are available from Becky Renko Northwest Region, NMFS, 7600 Sand Point Way N.E., Bldg. 1, Seattle, WA 98115-0070.

FOR FURTHER INFORMATION CONTACT: Becky Renko (206)526-6110 or Carrie Nordeen (206) 526-6144.

SUPPLEMENTARY INFORMATION: This action is authorized by the FMP and implementing regulations at 50 CFR 600.745 and 50 CFR 660.350.

Dover sole, petrale sole, English sole, rex sole, and arrowtooth flounder are abundant and important flatfish species in the Pacific Coast groundfish fishery. These flatfish species have historically been caught by vessels using trawl gear in depths of 50-150 fathoms (91-274 meters). Beginning in 2003, many of the areas where these flatfish species have historically been harvested are within the Trawl Rockfish Conservation Area (RCA) where fishing with bottom trawl gear is prohibited. Rockfish conservation areas are gear-specific, large-scale depth-related areas where low abundance (overfished) rockfish species are commonly found. It was necessary to define these areas to restrict fishing so the 2003 optimum yield (OY) levels for the overfished rockfish species are not exceeded.

The purpose of the exempted fishing activity is to measure the rate at which un-targeted species, particularly canary, darkblotched, yelloweye and widow rockfish, are taken by commercial fishers using an experimental trawl net. This experimental net was specifically designed to be more selective in the harvest of flatfish species than the trawl net configurations that are currently used in the fishery.

In 2001 and 2002, ODFW chartered commercial fishing vessels to develop and test new trawl net designs. Testing was conducted to compare the new net design with trawl net configurations that are typically used in the fishery. During the initial testing, significant reductions in the catch of overfished rockfish species relative to flatfish catch were observed. ODFW believes that this gear design, which meets the requirements of small footrope bottom trawl gear as defined by regulations at 50 CFR 660, could become an effective way for fishery participants to reduce rockfish bycatch in the flatfish fishery.

To encourage fishers to use this gear, increased trip limits for flatfish would be available to vessels that are willing to modify their existing gear or purchase new gear that is consistent with the design requirements, as defined by ODFW, and who are willing to carry an observer on board their vessel during all EFP fishing. The information gathered through this EFP may lead to changes in the management measures and future rulemakings.

An EFP is needed to allow for vessel to retain and land fish in excess of the trip limits announced in the Federal Register and to use the experimental trawl gear to directly harvest Dover sole, petrale sole, English sole, rex sole, and arrowtooth flounder in an RCA, where these flatfish species are most abundant. These activities are otherwise prohibited by Federal regulations. The information gathered through this EFP may lead to future rulemakings.

If issued, approximately eight vessels from various ports along the coast of Oregon, that have historically harvested Petrale and English sole, will fish under this EFP between May 1 and October 31, 2003. Vessels would be required to retain all rockfish and the proceeds from the sale of rockfish in excess of current trip limits would be abandoned to NMFS or the state of landing. During the effective dates of the EFP, participating vessels must carry a Federal fishery observer whenever they: (1) fish in a RCA; (2) use the experimental trawl gear specified in this EFP whether or not the vessel is used to fish within an RCA; or (3) take, retain, possess or land fish in excess of the current trip limits published in the Federal Register. Participation under this EFP does not exempt a vessel from Federal observer coverage requirements at 50 CFR 660.360. A participating vessel may also be required to carry a Federal observer throughout the cumulative period.

In addition to the cumulative trip limits announced in the Federal Register, each participating vessel will be permitted to take 1,500 lb (680 kg) of “other flatfish” and petrale sole per month, and 7,000 lb (3175 kg) of Dover sole per month. The total amount (discard plus retained) of Dover sole allowed to be taken under this EFP will not exceed 305 metric tons (mt) and total amount (discard plus retained) of petrale sole and “other flatfish” combined will not exceed 65 mt. The EFP fishing will be constrained by the following EFP limits for overfished species: yelloweye rockfish 1.2 mt, canary rockfish 2.7 mt, and widow rockfish 1.0 mt, darkblotched rockfish 2.1 mt, and Pacific ocean perch P >0.5 mt. If the EFP limits for any one of these overfished species is reached, the EFP will be terminated for the remainder of the 2003 fishing year. All EFP harvests are expected to be within set asides for 2003 EFP harvests and, therefore, no OY is expected to be exceeded.

This EFP requires that the participating vessels carry a Federal groundfish observer provided by NMFS. Observers will collect data from vessels which incidental catch rates and total catch of various species and species groups can be estimated. Observers may also collect and retain specimens of otherwise prohibited fish caught by the vessel.

At the Pacific Fishery Management Councils (Council) November 2002, meeting in Foster City, CA, the applicants presented this EFP application to the Council. The Council considered the application and recommended that NMFS issue the EFP for the proposed activity. Data collected during this project are expected to benefit the management of the groundfish fishery by providing much needed information on how effectively unintended species can be selected against by using a trawl gear design that is based on behavioral differences between species. Copies of the applications are available for review from NMFS (see ADDRESSES).

Authority: 16 U.S.C. 1801 et seq.

Dated: April 16, 2003.
Dean Swanson,
Acting Director, Office of Sustainable Fisheries , National Marine Fisheries Service.

[FR Doc. 03-9794 Filed 4-18-03; 8:45 am]

BILLING CODE 3510-22-S